DEPARTMENT OF AGRICULTURE

Submission for OMB Review; Comment Request

The Department of Agriculture has submitted the following information collection requirement(s) to OMB for review and clearance under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 19, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food Safety and Inspection Service

Title: Analyzing Consumers' Value of “Product of USA” Labeling Claims.

OMB Control Number: 0583-New.

Summary of Collection: The U.S. Department of Agriculture's (USDA's) Food Safety and Inspection Service (FSIS) has been delegated the authority to exercise the functions of the Secretary (7 CFR 2.18, 2.53), as specified in the Federal Meat Inspection Act (FMIA) (21 U.S.C. 601, et seq.) and Poultry Products Inspection Act (21 U.S.C. 453 et seq.). This statute mandates that FSIS protect the public by verifying that meat and poultry products are safe, wholesome, unadulterated, and properly labeled and packaged. The FSIS Food Standards and Labeling Policy Book (the “Policy Book”) provides guidance to help meat and poultry product manufacturers prepare product labels that are truthful and not misleading.

The “Policy Book” states that labeling may bear the phrase “Product of USA” under one of the following conditions: (1) If the country to which the product is exported requires this phrase, and the product is processed in the United States or (2) if the product is processed in the United States (i.e., is of domestic origin).

Need and Use of the Information: FSIS will conduct a web-based survey/experiment that will address three primary research questions: (1) Do consumers notice the “Product of USA” labeling claim?; (2) Do consumers understand the current “Product of USA” definition and other “USDA” labeling (e.g., “USDA Choice”) as it relates to country of origin?; and (3) How much are consumers willing to pay for meat products bearing the “Product of USA” labeling claim for the current definition and potential revised definitions (e.g., if the meat were from an animal that was born, raised, slaughtered, and processed in the United States)?

Description of Respondents: Individuals or households.

Number of Respondents: 9,873.

Frequency of Responses: Recordkeeping; Reporting: On occasion.

Total Burden Hours: 1,815.

Dated: April 14, 2022.
Ruth Brown,
Departmental Information Collection Clearance Officer.

[FR Doc. 2022-08343 Filed 4-18-22; 8:45 am]

BILLING CODE 3410-DM-P